DEPARTMENT OF COMMERCE

National Oceanic and Atmospheric Administration

[Docket No. 0306021411-4191-08; I.D. 062404A]

RIN 0648-ZB55

Availability of Grant Funds for Fiscal Year 2005

AGENCY: National Oceanic and Atmospheric Administration (NOAA), Department of Commerce (DOC).

ACTION: Omnibus notice announcing the availability of grant funds for Fiscal Year 2005.

SUMMARY: The National Oceanic and Atmospheric Administration (NOAA) announces the availability of grant funds for Fiscal Year 2005. The purpose of this notice is to provide the general public with a single source of program and application information related to the Agency's competitive grant offerings, and it contains the information about those programs required to be published in the Federal Register. This omnibus notice is designed to replace the multiple Federal Register notices that traditionally advertised the availability of NOAA's discretionary funds for its various programs. It should be noted that additional program initiatives unanticipated at the time of the publication of this notice may be announced through both subsequent Federal Register notices and the NOAA Web site. These announcements will also be available through Grants.gov.

DATES: Proposals must be received by the date and time indicated under each program listing in the SUPPLEMENTARY INFORMATION section.

ADDRESSES: Proposals must be submitted to the addresses listed in the SUPPLEMENTARY INFORMATION section for each program. The FR notices may be found on the NOAA Web site at http://www.ofa.noaa.gov/%7Eamd/SOLINDEX.HTML. The e-mail for Grants.gov is http:www.grants.gov.

FOR FURTHER INFORMATION CONTACT: For a copy of the full funding opportunity announcement and/or application kit, please contact the person listed as the information contact under each program.

SUPPLEMENTARY INFORMATION: This omnibus notice describes funding opportunities for the following NOAA discretionary grant programs:

NOAA Project Competitions

National Environmental Satellite, Data, and Information Service

1. Research in Satellite Data Assimilation for Numerical and Climate Prediction Models

National Marine Fisheries Service

1. Chesapeake Bay Watershed Education & Training (B-WET) Program

2. General Coral Reef Conservation

3. Projects To Improve or Amend Coral Reef Fishery Management Plans

4. North Atlantic Right Whale Research Programs

5. John H. Prescott Marine Mammal Rescue Assistance Grant Program

6. Community-based Habitat Restoration Projects

National Ocean Service

1. State and Territory Coral Reef Management

2. State and Territory Coral Reef Ecosystem Monitoring

3. International Coral Reef Conservation

4. FY2005 Coastal Services Center Environmental Characterization

5. FY2005 Coastal Services Center Remote Sensing for Coastal Management

6. FY2005 Coastal Services Center Application of Spatial Technology for Coastal Management

7. FY2005 Coastal Services Center Integrated Ocean Observing Systems

8. Monitoring and Event Response for Harmful Algal Blooms (MERHAB)

9. Bay Watershed Education & Training (B-WET) Program, Monterey Bay Watershed

10. Bay Watershed Education & Training (B-WET) Program, Hawaiian Islands

11. Coastal Hypoxia Research Program (CHRP)

12. SLR 2005—Ecological Effects of Sea Level Rise

13. National Estuarine Research Reserves System FY2005 Land Acquisition and Construction

14. Geodetic Science and Applied Research (GSAR) Program

Oceans and Atmospheric Research

1. Sea Grant B The Oyster Disease Research Program

2. Sea Grant B The Gulf of Mexico Oyster Industry Program

3. NOAA Office of Ocean Exploration Announcement of Opportunity, FY 2005

4. Joint Hurricane Testbed (JHT) Opportunities for Transfer of Research and Technology into Tropical Cyclone Analysis and Forecast Operations

5. NOAA Educational Partnership Program with Minority Serving Institutions: Environmental Entrepreneurship Program

6. NOAA Climate Transition Program for FY 2005

NOAA Fellowship, Scholarship and Internship Programs

National Ocean Service

1. Dr. Nancy Foster Scholarship Program; Financial Assistance for Graduate Students

2. National Estuarine Research Reserve (NERR) Graduate Research Fellowship Program (GRF)

Oceans and Atmospheric Research

1. GradFell 2005—NMFS/Sea Grant Joint Graduate Fellowship Program in Population Dynamics and Marine Resource Economics

2. Sea Grant—Industry Fellowship Program

Electronic Access

The full funding announcement for each program is available via the Grants.gov Web site: http://www.grants.gov. These announcements will also be available at the NOAA Web site http://www.ofa.noaa.gov/%7Eamd/SOLINDEX.HTML or by contacting the program official identified below. On October 1, 2004, you will be able to access, download and submit electronic grant applications for NOAA Programs in this announcement at http://www.grants.gov. The closing dates will be the same as for the paper submissions noted in this announcement. NOAA strongly recommends that you do not wait until the application deadline date to begin the application process through Grants.gov. Getting started with Grants.gov is easy! Go to www.Grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go.

Get Started Step 1B Find Grant Opportunity for Which You Would Like To Apply

Start your search for Federal government-wide grant opportunities and register to receive automatic e-mail notifications of new grant opportunities or any modifications to grant opportunities as they are posted to the site by clicking the Find Grant Opportunities tab at the top of the page.

Get Started Step 2B Register With Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started Step 3B Register With the Credential Provider

You must register with a Credential Provider to receive a username and password. This will be required to securely submit your grant application.

Get Started Step 4B Register With Grants.gov

The final step in the Get Started process is to register with Grants.gov. This will be required to submit grant applications on behalf of your organization. After you have completed the registration process, you will receive e-mail notification confirming that you are able to submit applications through Grants.gov.

Get Started Step 5B Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization.

Evaluation Criteria and Selection Procedures

NOAA standardized the evaluation and selection process for its competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for letters of intent or pre-proposals; however, not all programs will include such a process. If a pre-application process is used by a program, it shall be described in the Summary Description and the deadline shall be provided in the Application Deadline section. Upon receipt of a full application by NOAA, an initial administrative review is conducted to determine compliance with requirements and completeness of the application. Merit review is conducted by mail reviewers and/or peer panel reviewers. Each reviewer will individually evaluate and rank proposals using the evaluation criteria provided below. A minimum of three merit reviewers per proposal is required. The merit reviewer's ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to NOAA, Federal, regional, State, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or Participation of targeted groups.

7. Adequacy of information necessary for NOAA staff to make a NEPA determination and draft necessary documentation before recommendations for funding are made to the Grants Officer.

Proposal Review and Selection Process for NOAA Fellowship, Scholarship and Internship Programs

Some programs may include a pre-application process which provides an initial review and feedback to the applicants that have responded to a call for letters of intent or pre-proposals; however not all programs will include such a process. If a pre-application process is used by a program, it shall be described in the Summary Description and the deadline shall be provided in the Application Deadline section. An initial administrative review of full applications is conducted to determine compliance with requirements and completeness of applications. A merit review is conducted to individually evaluate, score, and rank applications using the evaluation criteria. A second merit review may be conducted on the applicants that meet the program's threshold (based on scores from the first merit review) to make selections using the selection factors provided below. The Program Officer may conduct a review of the rank order and make recommendations to the Selecting Official based on the panel ratings and the selection factors listed below. The Selecting Official considers merit reviews and recommendations. The Selecting Official will award in rank order unless the proposal is justified to be selected out of rank order based upon one or more of the selection factors below. The Selecting Official makes final recommendations for award to the Grants Officer who is authorized to obligate the funds.

Evaluation Criteria for Fellowship/Scholarships/Internships

1. Academic record and statement of career goals and objectives of student

2. Quality of project and applicability to program priorities

3. Recommendations and/or endorsements of student

4. Additional relevant experience related to diversity of education; extra-curricular activities; honors and awards; interpersonal, written, and oral communications skills

5. Financial need of student

1. Selection Factors for Fellowship/Scholarships/Internships

Balance/Distribution of funds:

a. Across academic disciplines

b. By types of institutions

c. Geographically

2. Availability of funds

3. Program-specific objectives

4. Degree in scientific area and type of degree sought

NOAA Project Competitions

National Environmental Satellite, Data, and Information Service

1. Research in Satellite Data Assimilation for Numerical and Climate Prediction Models

Summary Description: The NOAA/NESDIS Joint Center for Satellite Data Assimilation (JCSDA) announces the availability of Federal assistance for research in the area of satellite data assimilation in numerical weather and climate prediction models. The goal of the JCSDA is to accelerate the use of observations from earth-orbiting satellites in operational numerical prediction models for the purpose of improving weather forecasts, improving seasonal to interannual climate forecasts, and increasing the physical accuracy of climate data sets. The advanced instruments of current and planned NOAA, NASA, DOD, and international agency satellite missions will provide large volumes of data on atmospheric, oceanic, and land surface conditions with accuracies and spatial resolutions never before achieved. The JCSDA will strive to realize the maximum benefit of its investment in space as part of an advanced global observing system. Funded proposals will help accelerate the use of satellite data from both operational and experimental spacecraft in operational and product driven weather and climate prediction environments; advance data assimilation science including radiative transfer models; improve numerical weather prediction model physics to increase information extraction; characterize the error covariances related to forecast models, radiative transfer models, and satellite observations; and utilize satellite-derived products of aerosols, ozone and trace gases for air quality forecasts. This Federal Funding Opportunity is being managed by NOAA on behalf of the JCSDA. Applicants are encouraged to submit a Letter of Intent (LOI) describing the proposed work and its relevance to targeted priority project areas. The purpose of the LOI process is to provide information to potential applicants on the relevance of their proposed project to JCSDA and the likelihood of it being funded in advance of preparing a full proposal.

Funding Availability: Total funding available is anticipated to be approximately $1 million. Individual annual awards in the form of grants or cooperative agreements are expected to range from $50,000 to $150,000, although greater amounts may be awarded. It is anticipated that 6-8 awards will be made.

Statutory Authority: Statutory authorities for this program are provided under 15 U.S.C. 313, 49 U.S.C. 44720(b); 15 U.S.C. 29071 et seq.

CFDA: 11.440, Environmental Sciences, Applications, Data, and Education.

Preapplication/Application Deadline: Letters of Intent must be received by the National Environmental Satellite, Data, and Information Service (NESDIS) , no later than 5 p.m., Eastern daylight time on August 2, 2004, and full proposals must be received no later than 5 p.m., eastern daylight time on October 1, 2004.

Address for Submitting Letters of Intent and Proposals: NOAA/NESDIS Joint Center for Satellite Data Assimilation, 5200 Auth Road, Room 808, Camp Springs, MD 20746-4304, (301) 763-8172.

Information Contacts: Fuzhong Weng, JCSDA, NOAA/NESDIS, 5200 Auth Road, Room 808, Camp Springs, Maryland 20746, or by phone at (301) 763-8172, or fax to (301) 763-8149, or via internet at fuzhong.weng@noaa.gov or Kathy LeFevre, NOAA/NESDIS, 5200 Auth Road, Room 701, Camp Springs, Maryland 20746, or by phone at (301) 763-8127x103, or fax to (301) 763-8108, or via Internet at kathy.lefevre@noaa.gov.

Eligibility: Eligible applicants are institutions of higher education, other non profits, commercial organizations, international organizations, State, local and Indian tribal governments and Federal agencies. Applications from non-Federal and Federal applicants will be competed against each other. Joint proposals involving Federal and external investigators are encouraged.

Please Note: Before non-NOAA Federal applicants may be funded, they must demonstrate that they have legal authority to receive funds from another Federal agency in excess of their appropriation. The only exception to this is governmental research facilities for awards issued under the authority of 49 U.S.C. 44720(b). Because this announcement is not proposing to procure goods or services from applicants, the Economy Act (31 U.S.C. 1535) is not an appropriate legal basis.

Eligibility: Eligible applicants are Federal agencies, institutions of higher education, other non-profits, commercial organizations, State, local and Indian tribal governments.

Cost Sharing or Matching Requirements: None.

Intergovernmental Review: Applications under this program are not subject to Executive Order 12372, “Intergovernmental Review of Federal Programs.”

National Marine Fisheries Service (NMFS)

1. Chesapeake Bay Watershed Education & Training (B-WET) Program

Summary Description: The Chesapeake Bay Watershed Education & Training (B-WET) Program is a competitively based program that supports existing environmental education programs, fosters the growth of new programs, and encourages the development of partnerships among environmental education programs throughout the entire Chesapeake Bay watershed. Funded projects assist in meeting the Stewardship and Community Engagement goals of the Chesapeake 2000 Agreement. Projects support organizations that provide students “meaningful” Chesapeake Bay or stream outdoor experiences and teachers professional development opportunities in the area of environmental education related to the Chesapeake Bay watershed.

Funding Availability: This solicitation announces that approximately $2.2M may be available in FY 2005 in award amounts to be determined by the proposals and available funds. Applicants are hereby given notice that funds have not yet been appropriated for this program. About $1.1M will be for proposals that provide opportunities for students (K through 12) to participate in a “Meaningful” Chesapeake Bay or Stream Outdoor Experience. About $1.1M will be for proposals that provide opportunities for Professional Development in the area of Environmental Education for Teachers within the Chesapeake Bay Watershed. Approximately 10% of the amount available will be awarded to smaller, community-based organizations that work at a local level to provide environmental education programs. The NCBO anticipates that typical project awards for “Meaningful” Bay or Stream Outdoor Experiences and Professional Development in the Area of Environmental Education for Teachers will range from $10,000 to $100,000. Proposals will be considered for funds greater than the specified ranges, however, no recipient will be awarded funding that exceeds 10% of the funding available.

Statutory Authority: 16 U.S.C. 661, 15 U.S.C. 1540.

CFDA: 11.457 Chesapeake Bay Studies, Education.

Application Deadline: Proposals must be received by NMFS no later than 5 p.m., local time, October 18, 2004.

Address for Submitting Proposals: NOAA Chesapeake Bay Office; Education Coordinator; 410 Severn Avenue, Suite 107A; Annapolis, MD 21403.

Information Contacts: Shannon Sprague: (410) 267-5664 or shannon.sprague@noaa.gov.

Eligibility: Eligible applicants for both areas of interest (i.e., “Meaningful” Chesapeake Bay or Stream Outdoor Experience and Professional Development in the Area of Environmental Education for Teachers Within the Chesapeake Bay Watershed) are K through 12 public and independent schools and school systems, institutions of higher education, nonprofit organizations, State or local government agencies, interstate agencies, and Indian tribal governments in the Chesapeake Bay watershed. The Department of Commerce/National Oceanic and Atmospheric Administration (DOC/NOAA) is strongly committed to broadening the participation of Historically Black Colleges and Universities, Hispanic serving institutions, tribal colleges and universities, and institutions that work in undeserved areas. The NCBO encourages proposals involving any of the above institutions.

Cost Sharing Requirements: Encouraged, but not required.

Intergovernmental Review: Applications under this program are not subject to Executive Order 12372, “Intergovernmental Review of Federal Programs.”

2. General Coral Reef Conservation

Summary Description: The General Coral Reef Conservation (GCRC) program is soliciting proposals to support conservation projects for coral reef ecosystems of the United States and the Freely Associated States in the Pacific (Republic of Palau, the Republic of the Marshall Islands, and the Federated States of Micronesia). This program is part of the NOAA Coral Reef Conservation Grant Program under the Coral Reef Conservation Act of 2000 which provides matching grants of financial assistance for coral reef conservation projects that: (1) Help preserve, sustain and restore the condition of coral reef ecosystems, (2) promote the wise management and sustainable use of coral reef resources, (3) increase public knowledge and awareness of coral reef ecosystems and issues regarding their conservation and (4) develop sound scientific information on the condition of coral reef ecosystems and the threats to such ecosystems. Projects must address one of the following 8 categories as identified by the U.S. Coral Reef Task Force: monitoring and assessment activities; socio-economic and resource valuation; Marine Protected Areas and associated management activities; coral reef fisheries management; reducing pollution; coral reef restoration; public education and outreach activities; and local action strategy implementation. Applications for research activities will not be eligible under this category. Interested applicants must submit a pre-application of up to 20 pages that includes a cover sheet, project summary, narrative project description and narrative budget summary. Federal forms do not need to be submitted with the pre-application.

Funding Availability: This solicitation announces that approximately $600,000 may be available in FY 2005 under the GCRC, of which up to $200,000 may be used to address local action strategies. NMFS anticipates that approximately 15 grants will be awarded with these funds, with individual awards ranging from a minimum of $15,000 to a maximum of $50,000. Funding will be subject to the availability of Federal appropriations.

Statutory Authority: 16 U.S.C. 6403.

CFDA: 11.463 Habitat Conservation.

Pre-Application/Final Application Deadline: Applicants are strongly encouraged to submit their pre-application electronically to coral.grants@noaa.gov. Pre-applications are due to NOAA by 11:59 p.m., Eastern Time, on December 10, 2004. Final applications are due to NOAA by 11:59 p.m., Eastern Time on March 4, 2005. Proposals received after these deadlines will not be accepted.

Address for Submitting Proposals: Pre-applications should be submitted by electronic mail to coral.grants@noaa.gov, or surface mail to David Kennedy, NOAA Coral Reef Conservation Program, Office of Response and Restoration, N/ORR, Room 10102, NOAA National Ocean Service, 1305 East West Highway, Silver Spring, MD 20910.

Information Contacts: Andy Bruckner, Office of Habitat Conservation, F/HC1, Room 15836, NOAA Fisheries, 1315 East West Highway, Silver Spring, MD 20910, phone (301) 713-3459 extension 190, e-mail at andy.bruckner@noaa.gov.

Eligibility: Eligible applicants include institutions of higher education, non-profit organizations, commercial organizations, Freely Associated State government agencies and local and Indian tribal governments. U.S. State, Territory, and Commonwealth government agencies are not eligible under this program. Federal agencies are eligible under this program; however, such applications will be a low priority unless they are an essential part of a cooperative project with other eligible educational or non-governmental institutions.

Cost Sharing Requirements: Any coral conservation project funded under this program requires a 1:1 match. Matching funds must be from non-Federal sources and can include in-kind contributions and other non-cash support. The nature of the contribution (cash versus in-kind) and the amount of matching funds will be taken into consideration in the review process, with cash being the preferred method of contribution. The NOAA Administrator may waive all or part of the matching requirement if the Administrator determines that the project meets the following two requirements: (1) No reasonable means are available through which an applicant can meet the matching requirement, and (2) The probable benefit of such project outweighs the public interest in such matching requirement. In the case of a waiver request, the applicant must provide a detailed justification explaining the need for the waiver.

Intergovernmental Review: Applications under this program are subject to Executive Order 12372, “Intergovernmental Review of Federal Programs.”

3. Projects to Improve or Amend Coral Reef Fishery Management Plans

Summary Description: The objectives of this program are to support programs and projects established by the Regional Fishery Management Councils to conserve and manage coral reef fishery resources by reducing the adverse impacts of fishing and other extractive uses on coral reefs and associated ecosystems, and incorporating conservation and sustainable management measures into existing or new Federal fishery management plans (FMPs). Projects must address one of the following 9 categories: (1) Identification, mapping and characterization of EFH, HAPCs, and spawning populations; (2) monitoring reef fish stocks; (3) efforts to reduce overfishing of coral reef resources; (4) identification and reduction of adverse effects of fishing and fishing gear; (5) elimination of destructive and habitat-damaging fishing practices; (6) assessment of the adequacy of current coral reef fishing regulations; (7) education and outreach efforts to recreational and commercial fishers; (8) ecosystem-scale studies and inclusion of ecosystem approaches and principals into coral reef FMPs; and (9) reduction of overexploitation of reef organisms for the aquarium trade. Priority will be given to proposals for coral reef activities in the Council's jurisdiction, although complementary activities of high conservation value within State waters that are fully coordinated with appropriate state, territory or commonwealth management authorities are also acceptable. This program is part of the NOAA Coral Reef Conservation Grant Program under the Coral Reef Conservation Act of 2000 which provides matching grants of financial assistance for coral reef conservation projects and is not intended to support normal Council activities or responsibilities and will support up to a maximum of one full-time equivalent working exclusively on Council coral reef conservation activities. Interested applicants must submit a pre-application of up to 20 pages that includes a cover sheet, project summary, narrative project description and narrative budget summary. Federal forms do not need to be submitted with the pre-application. Selected applicants may be asked to revise award objectives, work plans or budgets prior to submittal of a final application and required Federal financial assistance forms.

Funding Availability: NMFS may provide approximately $1,050,000 in funding in FY 2005. In order to ensure regional balance, a maximum of $525,000 may be available for activities in the Western Pacific, and a maximum of $525,000 may be available for activities in the South Atlantic, Gulf of Mexico, and Caribbean. Funding will be subject to the availability of federal appropriations.

Statutory Authority: 16 U.S.C. 6403.

CFDA: 11.441 Regional Fishery Management Councils.

Pre-Application/Final Application Deadline: Applicants are strongly encouraged to submit their pre-application electronically to coral.grants@noaa.gov. Pre-applications are due to NOAA by 11:59 p.m., Eastern Time, on December 10, 2004. Final applications are due to NOAA by 11:59 p.m., Eastern Time on March 4, 2005. Proposals received after these deadlines will not be accepted.

Address for Submitting Proposals: Applicants are strongly encouraged to submit pre-applications electronically to coral.grants@noaa.gov. Pre-applications should be submitted by electronic mail to coral.grants@noaa.gov, or surface mail to David Kennedy, NOAA Coral Reef Conservation Program, Office of Response and Restoration, N/ORR, Room 10102, NOAA National Ocean Service, 1305 East West Highway, Silver Spring, MD 20910.

Information Contacts: Andy Bruckner, Office of Habitat Conservation, F/HC1, Room 15836, NOAA Fisheries, 1315 East West Highway, Silver Spring, MD 20910, phone (301) 713-3459 extension 190, e-mail at andy.bruckner@noaa.gov.

Eligibility: Applicants are limited to the Western Pacific Regional Fishery Management Council, South Atlantic Fishery Management Council, Gulf of Mexico Fishery Management Council, and Caribbean Fishery Management Council.

Cost Sharing Requirements: None.

Intergovernmental Review: Applications under this program are not subject to Executive Order 12372, “Intergovernmental Review of Federal Programs.”

4. North Atlantic Right Whale Research Programs

Summary Description: In FY 2005, the National Marine Fisheries Service (NMFS) will solicit applications for Federal assistance under the North Atlantic Right Whale Research Grant Program (RWRGP). Under the RWRGP, NMFS will provide financial assistance to eligible researchers working within waters inhabited by North Atlantic right whales and submitting applications pertaining only to this species. Applications must fall within at least one of the following 10 categories: (1) Detection and tracking of right whales; (2) Behavior of right whales in relation to ships; (3) Relationships between vessel speed, size or design with whale collisions; (4) Modeling of ship traffic along the Atlantic coast; (5) Population monitoring and assessment studies; (6) Reproduction, health and genetic studies; (7) Development of a Geographic Information System database or other system designed to investigate predictive modeling of right whale distribution in relation to environmental variables; (8) Habitat quality studies including food quality and pollutant levels; (9) Development of fishing gear to minimize entanglement risk; and (10) Any other work relevant to the recovery of North Atlantic right whales.

Funding Availability: Approximately $2.0M, depending on appropriations. It is anticipated that up to 20 awards will be made. Although there are no restrictions on amount, the awards may range from $65,000 to $1 million.

Statutory Authority: 16 U.S.C. 1380.

CFDA: 11.472, Unallied Science Program.

Application Deadline: The application package must be received or postmarked by 5 p.m. (local time) August 30, 2004.

Address for Submitting Proposals: NOAA/NMFS Right Whale Research Grants Program, Protected Species Branch, Northeast Fisheries Science Center, 166 Water Street, Woods Hole, MA 02543, e-mail: rightwhalegrants@noaa.gov.

Information Contacts: Dr. Phillip J. Clapham, Northeast Fisheries Science Center, 166 Water Street, Woods Hole, MA 02543, (508) 495-2316, e-mail: rightwhalegrants@noaa.gov.

Eligibility: Eligible applicants are individuals, institutions of higher education, other nonprofits, commercial organizations, international organizations, foreign governments, organizations under the jurisdiction of foreign governments, and State, local and Indian tribal governments. Federal agencies, or employees of Federal agencies are not eligible to apply.

Cost Sharing Requirements: No cost sharing is required under this program.

Intergovernmental Review: Applications under this program are subject to Executive Order 12372, “Intergovernmental Review of Federal Programs.”

5. John H. Prescott Marine Mammal Rescue Assistance Grant Program

Summary Description: NMFS is inviting eligible marine mammal stranding network participants to submit proposals to fund the recovery or treatment (i.e., rescue and rehabilitation) of live stranded marine mammals, data collection from living or dead stranded marine mammals for scientific research regarding marine mammal health, and facility operations directly related to the recovery or treatment of stranded marine mammals and collection of data from living or dead stranded marine mammals. The Prescott Grant Program is administered through the NMFS Marine Mammal Health and Stranding Response Program (MMHSRP). It is NMFS's intent to also reserve a portion of funds to make emergency assistance available for catastrophic stranding events throughout the year on an as-needed basis. It is anticipated that awards funded through the Prescott Grant Program will facilitate achievement of the MMHSRP goals and objectives by providing financial assistance to eligible stranding network participants. Proposals selected for funding through this solicitation will be implemented through either a cooperative agreement or interagency transfer.

Funding Availability: Funding of up to $3,700,000 is expected to be available in FY 2005. The maximum Federal award for each grant cannot exceed $100,000, as stated in the legislative language (16 U.S.C. 1421f-1). Applicants are hereby given notice that these funds have not yet been appropriated for this program and therefore exact dollar amounts cannot be given.

Statutory Authority: The Marine Mammal Rescue Assistance Act of 2000 amended the Marine Mammal Protection Act (MMPA) to establish the John H. Prescott Marine Mammal Rescue Assistance Grant Program (16 U.S.C. 1421f-1).

CFDA: 11.439 Marine Mammal Data Program.

Application Deadline: Applications for funding under the Prescott program must be received or postmarked by August 16, 2004.

Address for Submitting Proposals: Applications should be sent to: NOAA/NMFS/Office of Protected Resources, Marine Mammal Health and Stranding Response Program, Attn: Michelle Ordono, 1315 East-West Highway, Room 12604, Silver Spring, MD 20910-3283, phone (301) 713-2322 ext 177.

Information Contacts: Janet Whaley, Michelle Ordono, or Sarah Wilkin at (301) 713-2322, by fax at (301) 713-0376, or by e-mail at Janet.Whaley@noaa.gov, Michelle.Ordono@noaa.gov, or Sarah.Wilkin@noaa.gov.

Eligibility: There are 5 categories of eligible stranding network participants that may apply for funds under this Program: (1) Letter of Agreement (LOA) holders; (2) LOA designee organizations; (3) researchers; (4) official Northwest Region participants; and, (5) State, local, eligible Federal government employees or tribal employees or personnel. In order for these organizations and individuals to apply for award funds under the Prescott Grant Program, they must meet eligibility criteria specific to their category of participation.

Cost Sharing Requirements: All proposals submitted must provide a minimum non-Federal cost share of 25 percent of the total budget (i.e., .25 x total project costs “ total non-Federal share).

Intergovernmental Review: Applications under this program are subject to Executive Order 12372, “Intergovernmental Review of Federal Programs.”

6. Community-based Habitat Restoration Projects

Summary Description: NMFS is inviting the public to submit proposals for available funding to implement grass-roots habitat restoration projects that will benefit living marine resources, including anadromous fish, under the NOAA Community-based Restoration Program (CRP). Projects funded through the CRP will be expected to have strong on-the-ground habitat restoration components that provide educational and social benefits for people and their communities in addition to long-term ecological habitat improvements for NOAA trust resources. Proposals selected for funding through this solicitation will be implemented through a cooperative agreement.

Funding Availability: Funding of up to $3,000,000 is expected to be available for community-based habitat restoration projects in FY 2005. The NOAA Restoration Center (RC) anticipates that typical project awards will range from $50,000 to $200,000.

Statutory Authority: The Secretary of Commerce is authorized under the Fish and Wildlife Coordination Act, 16 U.S.C. 661, as amended by the Reorganization Plan No. 4 of 1970, to provide grants or cooperative agreements for fisheries habitat restoration.

CFDA: 11.463 Habitat Conservation.

Application Deadline: Applications for project funding under the CRP must be received or postmarked by September 15, 2004.

Address for Submitting Proposals: Send applications to Christopher D. Doley, Director, NOAA Restoration Center, National Marine Fisheries Service, 1315 East West Highway (F/HC3), Silver Spring, MD 20910-3282; attn: CRP Project Applications.

Information Contacts: Robin Bruckner or Melanie Gange at (301) 713-0174, or by fax at (301) 713-0184, or by e-mail at Robin.Bruckner@noaa.gov or Melanie.Gange@noaa.gov.

Eligibility: Eligible applicants are institutions of higher education, hospitals, other non-profits, commercial (for profit) organizations, organizations under the jurisdiction of foreign governments, international organizations, State, local and Indian tribal governments. Applications from Federal agencies or employees of federal agencies will not be considered.

Cost Sharing Requirements: 1:1 non-Federal match is encouraged, but applicants with less than 1:1 match will not be disqualified. The nature of the contribution (cash versus in-kind) and the amount/value will be considered in the review process.

Intergovernmental Review: Applications under this program are subject to Executive Order 12372, “Intergovernmental Review of Federal Programs.”

National Ocean Service (NOS)

1. State and Territory Coral Reef Management

Summary Description: This program is soliciting proposals to support comprehensive projects for the conservation and management of coral reefs and associated fisheries in the jurisdictions of Puerto Rico, the U.S. Virgin Islands, Florida, Hawaii, Guam, the Commonwealth of the Northern Mariana Islands and American Samoa. Funding will also support jurisdictional participation in national coral reef planning activities, such as U.S. Coral Reef Task Force meetings. This program is part of the NOAA Coral Reef Conservation Grant Program under the Coral Reef Conservation Act of 2000 which provides matching grants of financial assistance for coral reef conservation projects. NOS will accept pre-applications for peer review. Selected applicants may be asked to revise award objectives, work plans or budgets prior to submittal of a final application, including required Federal financial assistance forms, to NOS.

Funding Availability: Approximately $2,100,000 may be available in FY 2005 to support awards under this program. Each eligible jurisdiction can apply for a maximum of $400,000. Funding is subject to the availability of federal appropriations. In addition to the approximately $2,100,000 that may be available, NOAA may make available additional funds to each jurisdiction, pending appropriations, to support the implementation of activities developed in Local Action Strategies for priority threat areas. The amount of funding awarded to each jurisdiction will be subject to the eligibility and evaluation requirements described in this announcement.

Statutory Authority: 16 U.S.C. 6403.

CFDA: 11.419, Coastal Zone Management Program.

Pre-Application/Final Application Deadline: Pre-applications are due to NOAA by 11:59 p.m., Eastern Time, on December 10, 2004. Final applications are due to NOAA by 11:59 p.m., Eastern Time on March 4, 2005.

Address for Submitting pre-applications: Pre-applications should be submitted by electronic mail to coral.grants@noaa.gov, or surface mail to David Kennedy, NOAA Coral Reef Conservation Program, Office of Response and Restoration, N/ORR, Room 10102, NOAA National Ocean Service, 1305 East West Highway, Silver Spring, MD 20910.

Information Contacts: Jonathan Kelsey, 1305 East West Highway, 11th Floor, N/ORM3, Silver Spring, MD 20910, phone (301) 713-3155 extension 230, e-mail at jonathan.kelsey@noaa.gov.

Eligibility: Eligible applicants are the governor-appointed point of contact agencies for coral reef coordination in each of the jurisdictions of American Samoa, Florida, the Commonwealth of the Northern Mariana Islands, Guam, Hawaii, Puerto Rico, and U.S. Virgin Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

2. State and Territory Coral Reef Ecosystem Monitoring

Summary Description: National Ocean Service, National Centers for Coastal and Ocean Science (NCCOS), is soliciting proposals from eligible applicants to support a nationally coordinated, comprehensive, long-term monitoring program to assess the condition of U.S. coral reef ecosystems and evaluate the efficacy of coral reef ecosystem management. This program is part of the NOAA Coral Reef Conservation Grant Program under the Coral Reef Conservation Act of 2000 which provides matching grants of financial assistance for coral reef conservation projects. NOS will accept pre-applications for peer review. Selected applicants may be asked to revise award objectives, work plans or budgets prior to submittal of a final application, including required Federal financial assistance forms, to NOS.

Funding Availability: NCCOS may provide approximately $1,000,000 in funding for FY 2005 to support coral reef monitoring activities under this program. FY 2005 awards to Puerto Rico, Florida, U.S. Virgin Islands, Hawaii, American Samoa, Guam, and the Commonwealth of the Northern Mariana Islands are expected to range from $50,000 to $130,000. FY 2005 awards to the Federated States of Micronesia, Republic of Palau, and the Republic of the Marshall Islands are expected to range from $10,000 to $20,000 per year. Funding will be subject to the availability of Federal appropriations.

Statutory Authority: 16 U.S.C. 6403.

CFDA: 11.426, Financial Assistance for National Centers for Coastal Ocean Science.

Pre-Application/Final Application Deadline: Pre-applications are due to NOAA by 11:59 p.m., Eastern Time, on December 10, 2004. Final applications are due to NOAA by 11:59 p.m., Eastern Time on March 4, 2005.

Address for Submitting Proposals: Pre-applications should be submitted by electronic mail to coral.grants@noaa.gov, or surface mail to David Kennedy, NOAA Coral Reef Conservation Program, Office of Response and Restoration, N/ORR, Room 10102, NOAA National Ocean Service, 1305 East West Highway, Silver Spring, MD 20910.

Information Contacts: John Christensen, 1305 East West Highway, 9th Floor, N/SCI1, Silver Spring, MD 20910, phone (301) 713-3028 extension 153, e-mail at john.christensen@noaa.gov.

Eligibility: Eligible applicants are limited to the natural resource management agency in each U.S. State, Territory, or Freely Associated State, with jurisdiction over coral reefs, as designated by the respective governors or other applicable senior jurisdictional official. NOAA is requesting proposals from Puerto Rico, Florida, U.S. Virgin Islands, Hawaii, American Samoa, Guam, the Commonwealth of the Northern Mariana Islands, the Federated States of Micronesia, Republic of Palau, and Republic of the Marshall Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

3. International Coral Reef Conservation

Summary Description: This program supports four project categories in non-U.S. sites: (1) Promoting of Watershed Management in the Wider Caribbean, Brazil, and Bermuda, (2) enhancing management effectiveness of Marine Protected Areas, (3) encouraging regional approaches to further No-Take Marine Reserves in the Wider Caribbean, Brazil, Bermuda, and Southeast Asia, and (4) promoting socio-economic monitoring in coral reef management in the Wider Caribbean, Brazil, Bermuda, East Africa, South Pacific, and Southeast Asia. This program is part of the NOAA Coral Reef Conservation Grant Program under the Coral Reef Conservation Act of 2000 which provides matching grants of financial assistance for coral reef conservation projects. NOS will accept pre-applications for peer review. Selected applicants may be asked to revise award objectives, work plans or budgets prior to submittal of a final application, including required Federal financial assistance forms, to NOS.

Funding Availability: Approximately $400,000 may be available in FY 2005 to support grants and cooperative agreements under this program. Approximately $75,000-$100,000 may be allocated to each of the four project categories listed below, with the following award ranges: a. Watershed Management: $30,000-$40,000, b. Management Effectiveness: (1) Single site projects: $20,000-$40,000, (2) Regional capacity building projects: $80,000, c. Marine Reserves: $25,000-$40,000, and d. Socio-economic monitoring: $15,000-$25,000. Funding will be subject to the availability of federal appropriations.

Statutory Authority: 16 U.S.C. 6403.

CFDA: 11.463 Habitat Conservation.

Pre-Application/Final Application Deadline: Pre-applications are due to NOAA by 11:59 p.m., Eastern Time, on December 10, 2004. Final applications are due to NOAA by 11:59 p.m., Eastern Time on March 4, 2005.

Address for Submitting Proposals: Pre-applications should be submitted by electronic mail to coral.grants@noaa.gov, or surface mail to David Kennedy, NOAA Coral Reef Conservation Program, Office of Response and Restoration, N/ORR, Room 10102, NOAA Contact(s): Arthur Paterson, 1315 East West Highway, 5th Floor, Room 5627, Silver Spring, MD 20910, phone (301) 713-3078 extension 217, e-mail at Arthur.E.Paterson@noaa.gov.

Eligibility: Eligible applicants include all international, governmental, and non-governmental organizations. The proposed work must be conducted at a non-U.S. site and eligible countries are defined as follows. The Wider Caribbean includes the 37 States and territories that border the marine environment of the Gulf of Mexico, the Caribbean Sea, and the areas of the Atlantic Ocean adjacent thereto, and Brazil and Bermuda, but excluding areas under U.S. jurisdiction. The South Pacific Region includes South Pacific Regional Environment Program's 19 Pacific island countries and territories, including the Federated States of Micronesia, Republic of Palau, and the Republic of the Marshall Islands, but excluding U.S. territories and four developed country members. Southeast Asia Region includes Brunei, Cambodia, Indonesia, Laos, Malaysia, Philippines, Singapore, Thailand, and Vietnam. East Africa includes Kenya, Mozambique, Tanzania, and South Africa. Eligibility criteria is also contingent upon whether activities undertaken with respect to the application would be consistent with any applicable conditions or restrictions imposed by the U.S. government.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement.

Intergovernmental Review: Applications under this program are not subject to Executive Order 12372, “Intergovernmental Review of Federal Programs.”

4. FY2005 Coastal Services Center Landscape Characterization and Restoration Program

Summary Description: NOS is soliciting projects for the Coastal Services Center (CSC) Landscape Characterization and Restoration (LCR) program, with an anticipated start date of March 1, 2005. The Centers LCR program seeks proposals for a two-year cooperative agreement under which a cooperator and the Center will jointly develop an environmental characterization of a coastal estuary, watershed, or special management area located entirely or in part within California, Oregon, Washington, Alaska, Hawaii, Pacific U.S. Island Territories, or the Commonwealth of the Northern Mariana Islands.

Funding Availability: Total anticipated funding for a two year project is estimated to be $300,000 and no more than one award is expected.

Statutory Authority: 16 U.S.C. 1456c and 33 U.S.C. 1442.

CFDA: 11.473, Coastal Services Center.

Application Deadline: Proposals must be received by 5 p.m. EDT, October 1, 2004.

Address for Submitting Proposals: Coastal Services Center, 2234 South Hobson Avenue, Charleston, South Carolina 29405-2413 to the attention of Pae Wilber, room 234B.

Information Contacts: For administrative questions, contact Violet Legette, NOAA CSC; 2234 South Hobson Avenue, Room 218; Charleston, South Carolina 29405-2413, or by phone at (843) 740-1222, or by fax (843) 740-1232, or via Internet at Violet.Legette@noaa.gov. For technical questions, contact Pace Wilber, NOAA CSC; 2234 South Hobson Avenue, Room 234B; Charleston, South Carolina 29405-2413, or by phone at (843) 740-1235, or by fax (843) 740-1315, or via Internet at Pace.Wilber@noaa.gov.

Eligibility: Eligible applicants are institutions of higher education, hospitals, other non-profits, commercial organizations, foreign governments, organizations under the jurisdiction of foreign governments, international organizations, and State, local and Indian tribal governments. Federal agencies or institutions are not eligible to receive Federal assistance under this announcement, but may be project partners.

Cost Sharing Requirements: None.

Intergovernmental Review: Applications under this program is subject to Executive Order 12372, “Intergovernmental Review of Federal Programs.”

5. FY2005 Coastal Services Center Remote Sensing for Coastal Management

Summary Description: NOS is soliciting projects for the Coastal Services Center (CSC) Coastal Remote Sensing (CRS) program, with an anticipated start date of March 1, 2005. CRS is seeking proposals on applications of remotely sensed coastal spatial data to support coastal resource management decision-making and to help resolve coastal issues. The Centers goal is to aid coastal resource managers while promoting the use of remote sensing technologies and innovations. The Center seeks proposals for a two year cooperative agreement under which the Center will acquire commercial remote sensing imagery and/or products to the identified issue. The cooperator must show how their management issue will benefit substantially by the inclusion of remotely sensed data.

Funding Availability: Total anticipated funding for a two year project is estimated to be $25,000 and no more than one award is expected.

Statutory Authority: 16 U.S.C. 1456c.

CFDA: 11.473, Coastal Services Center.

Application Deadline: Proposals must be received by 5 p.m. EDT, October 1, 2004.

Address for Submitting Proposals: Coastal Services Center, 2234 South Hobson Avenue, Charleston, South Carolina 29405-2413 to the attention of Kirk Waters, room 236B.

Information Contacts: For administrative questions, contact Violet Legette, NOAA CSC; 2234 South Hobson Avenue, Room 218; Charleston, South Carolina 29405-2413, or by phone at (843) 740-1222, or by fax (843) 740-1232, or via Internet at Violet.Legette@noaa.gov. For technical questions, contact Kirk Waters, NOAA CSC; 2234 South Hobson Avenue, Room 103; Charleston, South Carolina 29405-2413, or by phone at (843) 740-1227, or by fax (843) 740-1289, or via Internet at Kirk.Waters@noaa.gov.

Eligibility: Eligible applicants are State, local and Indian tribal governments, institutions of higher education, and other non-profits. Federal agencies or institutions are not eligible to receive Federal assistance under this announcement, but may be project partners.

Cost Sharing Requirements: None.

Intergovernmental Review: Applications under this program is subject to Executive Order 12372, “Intergovernmental Review of Federal Programs.”

6. FY2005 Coastal Services Center Application of Spatial Technology for Coastal Management

Summary Description: NOS is soliciting projects for the Coastal Services Center (CSC) Geographic Information System (GIS) Integration and Development (I&D) program, with an anticipated start date of April 1, 2005. THE GIS I&D program seeks proposals for a one to two year cooperative agreements under which cooperators and the Center will jointly develop technical projects related to the goal of the GIS I&D program, which is to provide relevant, easily accessible spatial data, tools, and support services to the coastal resource management community. A priority of the GIS I&D program is to fund state and local level coastal resource management organizations proposing geospatial solutions to issues related to coastal hazards, smart growth, marine protected areas, permitting systems, data access and distribution, Internet mapping, or spatial data standards and documentation.

Funding Availability: Funding is estimated to be $250,000. Typically the GIS I&D program funds two to three projects with awards ranging from about $50,000 to $125,000.

Statutory Authority: 33 U.S.C. 883a; 33 U.S.C. 883c; and 16 U.S.C. 1456c.

CFDA: 11.473, Coastal Services Center.

Application Deadline: Letters of Intent (LOI) must be received by 5 p.m. EDT, July 30,2004 and full proposals must be received by 5 p.m. EDT, October 1, 2004. LOIs are not mandatory.

Address for Submitting Proposals: Coastal Services Center, 2234 South Hobson Avenue, Charleston, South Carolina 29405-2413 to the attention of Hamilton Smillie, room 153.

Information Contacts: For administrative questions, contact Violet Legette, NOAA CSC; 2234 South Hobson Avenue, Room 218; Charleston, South Carolina 29405-2413, or by phone at (843) 740-1222, or by fax (843) 740-1232, or via Internet at Violet.Legette@noaa.gov. For technical questions, contact Hamilton Smillie, NOAA CSC; 2234 South Hobson Avenue, Room 153; Charleston, South Carolina 29405-2413, or by phone at (843) 740-1192, or by fax (843) 740-1315, or via internet at Hamilton.Smillie@noaa.gov.

Eligibility: Eligible applicants are institutions of higher education, hospitals, other non-profits, commercial organizations, foreign government, organizations under the jurisdiction of foreign governments, international organizations, and state, local and Indian tribal governments. Federal agencies or institutions are not eligible to receive Federal assistance under this announcement, but may be project partners.

Cost Sharing Requirements: None.

Intergovernmental Review: Applications under this program is subject to Executive Order 12372, “Intergovernmental Review of Federal Programs.”

7. FY2005 Coastal Services Center Integrated Ocean Observing Systems

Summary Description: NOS is soliciting projects for the Coastal Services Center (CSC) Director's Office (DO) program, with an anticipated start date of March 1, 2005. The DO program seeks proposals for projects that enhance the organization, implementation, and application of regional coastal ocean observing systems. Coastal ocean observing systems are meant to include the sensors, personnel, and data management that obtain, process and apply regular and sustained in-situ and/or remote observations of the physical, chemical, and biological environment of Great Lakes, estuaries, and the near shore ocean of the United States. Of particular interest is the coordination of such systems for management of coastal and ocean resources and for the benefit of coastal communities. This program has two funding priorities for FY05: (1) Projects that facilitate building partnerships and regional organizational structures for regional observing systems; these coordination projects will focus on work in up to four geographies B the Pacific Islands, the Northeastern US, the northern Gulf of Mexico, and the Caribbean Islands. (2) Projects that strengthen programmatic linkages between then Center, NOAA Estuarine Reserves Division, National Estuarine Research Reserves (NERR) and the establishment of regional observing systems.

Funding Availability: Total available funding under this announcement is expected to be between $200,000 and $1,000,000 dollars depending on congressional appropriation. The Center expects to award two to four grants of up to $100,000 for funding priority number one and expects to award one to four grants of $50,000 to $500,000 for funding priority number two. Multiple year awards are expected from this announcement subject to availability of funding in fiscal years 2006 and 2007.

Statutory Authority: 16 U.S.C. 1456c and 33 U.S.C. 1442.

CFDA: 11.473, Coastal Services Center.

Application Deadline: Proposals must be received by 5 p.m. EDT, October 1, 2004.

Address for Submitting Proposals: Coastal Services Center, 2234 South Hobson Avenue, Charleston, South Carolina 29405-2413 to the attention of Paul Scholz, room 137.

Information Contacts: For administrative questions, contact Violet Legette, NOAA CSC; 2234 South Hobson Avenue, Room 218; Charleston, South Carolina 29405-2413, or by phone at (843) 740-1222, or by fax (843) 740-1232, or via Internet at Violet.Legette@noaa.gov. For technical questions, contact Paul Scholz, NOAA CSC; 2234 South Hobson Avenue, Room 137, Charleston, South Carolina 29405-2413, or by phone at (843) 740-1208 or by fax (843) 740-1313, or via Internet at Paul.Scholz@noaa.gov.

Eligibility: Eligible applicants are institutions of higher education, non-profit and for-profit organizations, foreign governments, organizations under the jurisdiction of foreign governments, international organizations, and State, local and Indian tribal governments. Organizations are encouraged to collaborate in development of multi-institutional proposals, however, funding for such a proposal must be awarded to a single (lead) entity that then has responsibility for administration and execution of any subawards. Federal agencies or institutions are not eligible to receive Federal assistance under this announcement, but may be project partners. Note: Federal agencies or institutions who are project partners must demonstrate that they have legal authority to receive funds from outside sources in excess of their appropriation.

Cost Sharing Requirements: None.

Intergovernmental Review: Applications under this program is subject to Executive Order 12372, “Intergovernmental Review of Federal Programs.”

8. Monitoring and Event Response for Harmful Algal Blooms (MERHAB)

Summary Description: NOS is soliciting projects for the Monitoring and Event Response for Harmful Algal Blooms (MERHAB) program within the Center for Sponsored Coastal Ocean Research/Coastal Ocean Program. Proposals are being requested for two types of research projects: MERHAB-targeted and MERHAB-regional. MERHAB-targeted proposals will incorporate tools, approaches and technologies from HAB research programs into existing harmful algal bloom (HAB) monitoring programs. MERHAB-regional proposals will create partnerships to enhance and sustain routine HAB monitoring capabilities and provide managers with timely information needed to mitigate HAB impacts on coastal communities. Funding is contingent upon the availability of Fiscal Year 2005 Federal appropriations.

Funding Availability: This solicitation announces that award amounts to be determined by the proposals and available funds typically not to exceed $100,000 per project per year with project durations from 1 to 3 years for targeted research projects and $600,000 per project per year with project durations from 3 to 5 years for regional research projects. It is anticipated that two to twelve total projects will be funded with no more than two being regional intensive projects. Support in out years is contingent upon fiscal availability of funds. It is anticipated that final recommendations for funding under this announcement will be made in early Calendar Year 2005, and that projects funded under this announcement will have a August 1, 2005, start date.

Statutory Authority: 16 U.S.C. 1442 and P.L. 105-383, title VI, Nov. 13, 1998, 112 Stat. 3447.

CFDA: 11.478 Center for Sponsored Coastal Ocean Research, Coastal Ocean Program (CSCOR/COP).

Application Deadline: Proposals must be received by NCCOS/CSCOR/COP no later than 3 p.m., local time, December 1, 2004.

Address for Submitting Proposals: Center for Sponsored Coastal Ocean Research, Coastal Ocean Program (CSCOR/COP), National Oceanic and Atmospheric Administration, (NOAA), 1305 East West Highway, Room 8243, SSMC Building 4, Silver Spring, MD 20910.

Information Contacts: Technical Information. Marc Suddleson, MERHAB 2005 Program Manager, NCCOS/CSCOR/COP, (301) 703-3338/ext 163, Internet: Marc.Suddleson@noaa.gov, Business Management Information. Leslie McDonald, NCCOS/CSCOR/COP Grants Administrator, (301) 713-3338/ext 155, Internet: Leslie.McDonald@noaa.gov.

Eligibility: Eligible applicants are institutions of higher education, other non-profits, State, local, Indian Tribal Governments, and Federal agencies that possess the statutory authority to receive financial assistance.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR/COP will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

9. Bay Watershed Education & Training (B-WET) Program, Monterey Bay Watershed

Summary Description: The B-WET grant program is a competitively based program that supports existing environmental education programs, fosters the growth of new programs, and encourages the development of partnerships among environmental education programs throughout the Monterey Bay watershed. Funded projects provide Meaningful outdoor experiences for students and professional development opportunities for teachers in the area of environmental education.

Funding Availability: This solicitation announces that approximately $475,000 may be available in FY 2005 in award amounts to be determined by the proposals and available funds. It is anticipated that approximately 15 grants will be awarded with these funds. About $250,000 will be for proposals that provide opportunities for students to participate in a Meaningful Outdoor Experience. About $225,000 will be for proposals that provide opportunities for Professional Development in the area of Environmental Education for Teachers. Proposals may be submitted for up to 3 years. However, funds will be made available for only a 12-month award period and any continuation of the award period will depend on submission of a successful proposal subject to technical and panel reviews, adequate progress on previous award(s), and available funding to continue the award. The National Marine Sanctuary Program may continue funding existing grants that were funded in the previous application process. New grants will be awarded to continue these projects under this announcement pending successful review of a new application package, and adequate progress reports and/or site visits.

Statutory Authority: 16 U.S.C. 1440, 15 U.S.C. 1540.

CFDA: 11.429, Marine Sanctuary Program.

Application Deadline: Proposals must be received by 5 p.m. Pacific daylight savings time on October 15, 2004. Proposals will not be accepted before August 15, 2004.

Address for Submitting Proposals: Monterey Bay National Marine Sanctuary Office; 299 Foam Street, Monterey, CA 93940. Facsimile transmissions and electronic mail submission of proposals will not be accepted.

Information Contact: Seaberry Nachbar, phone (831) 647-4201, fax (831) 647-4250, Internet at seaberry.nachbar@noaa.gov.

Eligibility: Eligible applicants for both areas of interest (Meaningful Outdoor Experiences and Professional Development in the Area of Environmental Education for Teachers) are K through 12 public and independent schools and school systems, institutions of higher education, commercial and nonprofit organizations, State or local government agencies, and Indian tribal governments. Applicants that are not eligible are individuals and Federal agencies.

Cost Sharing Requirements: No cost sharing is required under this program, however, the National Marine Sanctuary Program strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

10. Bay Watershed Education & Training (B-WET) Program, Hawaiian Islands

Summary Description: The B-WET grant program is a competitively based program that supports existing environmental education programs, fosters the growth of new programs, and encourages the development of partnerships among environmental education programs throughout the Hawaiian Islands. Funded projects provide “meaningful” outdoor experiences for students and professional development opportunities for teachers in the area of environmental education.

Funding Availability: This solicitation announces that approximately $400,000 may be available in FY 2005 in award amounts to be determined by the proposals and available funds. It is anticipated that approximately 10 grants will be awarded with these funds. About $200,000 will be for proposals that provide opportunities for students to participate in a “Meaningful” Outdoor Experience. About $200,000 will be for proposals that provide opportunities for Professional Development in the area of Environmental Education for Teachers. Proposals may be submitted for up to 3 years. However, funds will be made available for only a 12-month award period and any continuation of the award period will depend on submission of a successful proposal subject to technical and panel reviews, adequate progress on previous award(s), and available funding to continue the award. The NOAA Pacific Services Center may continue funding existing grants that were funded in the previous application process. New grants will be awarded to continue these projects under this announcement pending successful review of a new application package, and adequate progress reports and/or site visits.

Statutory Authority: 33 U.S.C. 883d, 15 U.S.C. 1540.

CFDA: 11.473, Coastal Services Center.

Application Deadline: Proposals must be received by 5 p.m. Hawaii standard time on October 15, 2004. Proposals will not be accepted before August 15, 2004.

Address for Submitting Proposals: NOAA Pacific Services Center office; 737 Bishop Street, Mauka Tower, Suite 2250, Honolulu, HI 96813-3212. Facsimile transmissions and electronic mail submission of proposals will not be accepted.

Information Contact: Bill Thomas, NOAA Pacific Services Center office; (808) 532-3200, or via internet at psc@noaa.gov.

Eligibility: Eligible applicants for both areas of interest (Meaningful Outdoor Experiences and Professional Development in the Area of Environmental Education for Teachers) are K-through-12 public and independent schools and school systems, institutions of higher education, commercial and nonprofit organizations, State or local government agencies, and Indian tribal governments. Applicants that are not eligible are individuals and Federal agencies.

Cost Sharing Requirements: No cost sharing is required under this program, however, the Pacific Services Center strongly encourages applicants to share as much of the costs of the award as possible. Funds from other Federal awards may not be considered matching funds. The nature of the contribution (cash versus in-kind) and the amount of matching funds will be taken into consideration in the review process with cash being the preferred method of contribution.

Intergovernmental Review: Applications under this program are not subject to Executive Order 12372, “Intergovernmental Review of Federal Programs.”

11. Coastal Hypoxia Research Program (CHRP)

Summary Description: NOS is soliciting proposals for the Coastal Hypoxia Research Program (CHRP) within the Center for Sponsored Coastal Ocean Research/Coastal Ocean Program. Proposals are being requested for projects of 2 to 5 years in duration with the purpose of developing modeling tools and information which will be used by resource managers to assess alternative management strategies and make informed decisions regarding hypoxia in U.S. coastal ocean waters, estuaries and Great Lakes. It is anticipated that projects funded under this announcement will have a start date of June 1, 2005.

Funding Availability: Funding is contingent upon the availability of Federal appropriations. Individual award amounts will be determined by the proposals and available funds, with awards typically not to exceed $500,000 per project per year and with project durations from 2-5 years. It is anticipated that approximately 4-8 awards will be made.

Statutory Authority: 33 U.S.C. 1442.

CFDA: 11.478 Center for Sponsored Coastal Ocean Research, Coastal Ocean Program (CSCOR/COP).

Application Deadline: Proposals must be received by NCCOS/CSCOR/COP no later than 3 p.m., local time, October 27, 2004.

Address for Submitting Proposals: Submit the original and 15 copies of your proposal to Attn. CHRP 2005, Center for Sponsored Coastal Ocean Research, Coastal Ocean Program (CSCOR/COP), National Oceanic and Atmospheric Administration, (NOAA), 1305 East West Highway, Room 8243, SSMC Building 4, Silver Spring, MD 20910.

Information Contacts: Technical Information. Kenric Osgood, CHRP 2005 Program Manager, NCCOS/CSCOR/COP, (301) 713-3338/ext 163, Internet: Kenric.Osgood@noaa.gov.

Business Management Information. Leslie McDonald, NCCOS/CSCOR/COP Grants Administrator, (301) 713-3338/ext 155, Internet: Leslie.McDonald@noaa.gov.

Eligibility: Eligible applicants are institutions of higher education, other non-profits, state, local, Indian Tribal Governments, and Federal agencies that possess the statutory authority to receive financial assistance.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR/COP will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

12. SLR 2005—Ecological Effects of Sea Level Rise

Summary Description: This announcement solicits proposals for projects of 2 to 3 years in duration with the purpose of developing maps and modeling tools that will be useful to coastal managers in their responses to coastal sea level rise. This will be a collaborative effort with the NOS Office of Coast Survey (OCS), National Geodetic Survey (NGS), and Center for Oceanographic Operational Products and Service (COOPS), who are developing a high-resolution digital elevation model (DEM) from recent airborne Lidar, coupled to a hydrodynamic model to predict the rise of mean water level due to oceanic sea level rise. Proposals must coordinate with the ongoing modeling being performed by NOS. The ultimate goal of the CSCOR study is to provide meaningful ecological data and understanding that can be combined with the DEM and hydrodynamic model to predict the ecological effects of projected sea level rise. The end result will be a model or models coupling the DEM and hydrodynamic model with ecological models to demonstrate the impact of projected sea level rise on critical natural resources. Given the relatively short time frame to produce results that are useable by managers, proposals are expected to apply primarily existing knowledge in a model framework to predict the ecological effects of sea level rise, although the collections of limited new data, with the goal of incorporating new information into these modeling efforts in a short time frame, may be justified.

Funding Availability: This solicitation announces that award amounts to be determined by the proposals and available funds typically will not exceed $300,000 per project per year with project durations from 2 to 3 years. It is anticipated that 3 to 5 projects will be funded. Support in out years is contingent upon the availability of funds.

Statutory Authority: 16 U.S.C. 1456c.

CFDA: 11.478, Coastal Ocean Program.

Application Deadline: Proposals must be received by NCCOS/CSCOR/COP no later than 3 p.m., local time. October 5, 2004.

Address for Submitting Proposals: Submit the original and 15 copies of your proposal to Attn. SLR2005, Center for Sponsored Coastal Ocean Research/Coastal Ocean Program (N/SCI2), National Oceanic and Atmospheric Administration, 1305 East-West Highway, SSMC4, 8th Floor Station 8243, Silver Spring, MD 20910.

Information Contacts: Technical Information. Carol Auer, SLR2005 Program Manager, NCCOS/CSCOR, (301) 713-3338/ext.164, Internet: Carol.auer@noaa.gov. Business Management Information. Leslie McDonald, NCCOS/CSCOR Grants Administrator, (301) 713-3338/ext. 155, Internet: Leslie.McDonald@noaa.gov.

Eligibility: Eligible applicants are institutions of higher education, other non-profits, state, local, Indian Tribal Governments, and Federal agencies that possess the statutory authority to receive financial assistance.

(1) Researchers must be employees of an eligible institution listed above; and proposals must be submitted through that institution. Non-Federal researchers should comply with their institutional requirements for proposal submission.

(2) Non-NOAA Federal applicants will be required to submit certifications or documentation showing that they have specific legal authority to receive funds from the Department of Commerce (DOC) for this research.

(3) NCCOS/CSCOR/COP will accept proposals that include foreign researchers as collaborators with a researcher, who has met the above stated eligibility requirements; and who also is an employee of an eligible institution listed above.

(4) Non-Federal researchers affiliated with NOAA-University Joint Institutes should comply with joint institutional requirements; they will be funded through grants either to their institutions or to joint institutes..

Cost Sharing Requirements: None.

Intergovernmental Review: Applications under this program are not subject to Executive Order 12372, “Intergovernmental Review of Federal Programs.”

13. National Estuarine Research Reserves System FY2005 Land Acquisition and Construction Program

Summary Description: The Estuarine Reserves Division (ERD) of NOAA is soliciting proposals from the National Estuarine Research Reserve System (NERRS) for land acquisition and construction funding. The National Estuarine Research Reserve System consists of estuarine areas of the United States and its territories which are designated and managed for research and educational purposes. Each reserve within the system is chosen to represent different biogeographic regions and to include a variety of ecosystem types. Through the funding of designated reserve agencies and universities to undertake land acquisition and construction projects that support the NERRS purpose, NOAA will strengthen protection of key land and water areas; enhance long-term protection of the area for research and education; and provide for facility and exhibit construction.

Funding Availability: The ERD of NOAA announces the availability of funding for the NERRS for land acquisition and/or construction. The ERD anticipates that approximately $7.25 million, pending availability of funds, will be competitively awarded to qualified National Estuarine Research Reserves that meet the funding priorities and selection criteria.

Statutory Authority: 16 U.S.C. 1461 (e)(1)(A)(i), (ii), and (iii).

CFDA: 11.420, Coastal Zone Management Estuarine Research Reserves.

Application Deadline: Proposals must be received by the Estuarine Reserves Division (ERD) no later than February 11, 2005.

Address for Submitting Proposals: NOAA/NOS; 1305 East-West Highway, Room 10509; Silver Spring, Maryland 20910.

Information Contacts: Doris Grimm, NOAA/NOS; 1355 East-West Highway, Room 10509; Silver Spring, Maryland 20910, or by phone at (301) 713-3155 ext. 107, or fax to (301) 713-4363, Internet at doris.grimm@noaa.gov.

Eligibility: Eligible applicants are coastal states in which the NERRs are located and are directed to the Reserves' lead State agencies or universities.

Cost Sharing Requirements: Matching requirements include 50 percent match of the total grant project for land acquisition and 30 percent match of the total grant project for construction.

Intergovernmental Review: Applications under this program are subject to Executive Order 12372, “Intergovernmental Review of Federal Programs.”

14. Geodetic Science and Applied Research (GSAR) Program

Summary Description: The GSAR Program represents an NOAA/NGS effort to conduct basic and applied research in the geodetic sciences that advances positioning operations and services in support of transportation and commerce on a national basis. This opportunity is focused on a specific problem: Analysis, and Methodology for Layered National Spatial Reference System Adjustment. There are at least 6 additional priorities that will be addressed in the future in the GSAR Program.

Funding Availability: One award of no more than $90,000 is expected to be made through this announcement, depending on availability of funds.

Statutory Authority: 33 U.S.C. 883d.

CFDA: 11.400, Applied Geodetic Research.

Application Deadline: Proposals must be received by the NGS no later than 5 p.m., EDT, July 30, 2004

Address for Submitting Proposals: Geodetic Services Division; NOAA National Geodetic Survey; N/NGS1; 1315 East-West Highway, Room 9356; Silver Spring, Maryland 20910-3282.

Information Contacts: Gilbert J. Mitchell: (301) 713-3228 ext. 114, or fax to (301) 713-4176, or via Internet at Gilbert.Mitchell@noaa.gov.

Eligibility: Eligible applicants are institutions of higher education, other nonprofits, commercial organizations, international organizations, State, local and Indian tribal governments and federally funded educational institutions such as the Naval Postgraduate School.

Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: No cost sharing is required under this program.

Intergovernmental Review: Applications under this program are not subject to Executive Order 12372, “Intergovernmental Review of Federal Programs.”

Ocean and Atmospheric Research (OAR)

1. Sea Grant B The Oyster Disease Research Program

Summary Description: The National Sea Grant College Program (Sea Grant) within OAR is seeking proposals to participate in innovative research that provides technology and management strategies to combat oyster disease and bring about the restoration of oysters and the oyster industry in U.S. coastal areas. It is the goal of the Oyster Disease Research Program to improve the survivability of oysters in U.S. coastal waters and to improve technology for disease management and control.

Funding Availability: Approximately $2 million is available for the Oyster Disease Research Program in FY-2005 and a similar amount is expected, but not assured for FY-2006. Therefore, two-year proposals are being accepted. Funding will be on an annual basis, with renewal dependent upon satisfactory demonstration of progress and availability of funds. There is no limit on the budget for the proposals so that multiple partners can come together to address the significant issues that are identified under the Program Priorities for this competition. We anticipate making six to ten awards per year with an anticipated start date of June 1, 2005.

Statutory Authority: Statutory authority for this program is provided under: 33 U.S.C. 1121-1131.

CFDA: 11.417, Sea Grant Support.

Preapplication/Application Deadline: Applications must be received by 4 p.m. (local time) on August 27, 2004 for preliminary proposals and by 4 p.m. (local time) on November 16, 2004 for full proposals by a state Sea Grant Program [or by the National Sea Grant Office (NSGO) in the case of an applicant in a non-Sea Grant state]. Applications are to be forwarded to the NSGO by the state Sea Grant Programs and received by 4 p.m. EST on September 2, 2004 for preliminary proposals and by 4 p.m. EST November 23, 2004 for full proposals.

Address for Submitting Proposals: Prospective applicants living in Sea Grant states should submit their preliminary and full proposals to their state's Sea Grant program. The addresses of the state Sea Grant College Programs may be found at the following Internet Web site: (http://www.nsgo.seagrant.org/SGDirectors.html) or may also be obtained by contacting Dr. James P. McVey at the NSGO (phone: (301) 713-2451; or e-mail: jim.mcvey@noaa.gov). Applications from non-Sea Grant states should send preliminary and full proposals to the NSGO. Applications submitted to the NSGO should be addressed to: NOAA National Sea Grant Office, Attn: Mrs. Geraldine Taylor, SG B Oyster Disease Research Program, 1315 East-West Highway, R/SG, Rm. 11732, Silver Spring, MD 20910 (telephone number for express mail applications is (301) 713-2445).

Information Contacts: Dr. James P. McVey, tel: (301) 713-2451; e-mail: jim.mcvey@noaa.gov, or any state Sea Grant Program.

Eligibility: Individuals, institutions of higher education, nonprofit organizations, commercial organizations, Federal, State, local and Indian tribal governments, foreign governments, and international organizations are eligible. Only those who submit preliminary proposals by the preliminary proposal deadline are eligible to submit full proposals. Those applicants submitting preliminary proposals by the preliminary proposal deadline that are not recommended by the pre-proposal review process would still be eligible to submit full proposals.

Cost Sharing Requirements: Applicants are required to provide one dollar for every two of Federal funds.

Intergovernmental Review: Applications under this program are not subject to Executive Order 12372, “Intergovernmental Review of Federal Programs.”

2. Sea Grant B The Gulf of Mexico Oyster Industry Program

Summary Description: The National Sea Grant College Program (Sea Grant) within OAR is seeking proposals to participate in innovative research, outreach and demonstration to continue the Gulf of Mexico Oyster Industry Program. The goal of the Gulf Oyster Industry Program is to encourage multi-disciplinary research and extension projects that contribute directly to the efficiency and profitability of oyster-related businesses and to the safety of oyster products. Oyster businesses seek innovative solutions at all producing and processing levels, including: Production (landings), oyster disease diagnostics, harvesting, post-harvest treatment, processing, distribution, marketing, consumer education, and food safety.

Funding Availability: Approximately $1 million is available for the Gulf Oyster Industry Program in FY-2005 and a similar amount is expected, but not assured for FY-2006. Therefore, two-year proposals are being accepted. Funding will be on an annual basis, with renewal dependent upon satisfactory demonstration of progress and availability of funds. There is no limit on the budget for the proposals so that multiple partners can come together to address the significant issues that are identified under the Program Priorities for this competition. We anticipate making three to seven awards per year with an anticipated start date of June 1, 2005.

Statutory Authority: Statutory authority for this program is provided under: 33 U.S.C. 1121-1131.

CFDA: 11.417, Sea Grant Support

Preapplication/Application Deadline: Applications must be received by 4 p.m. (local time) on August 27, 2004 for preliminary proposals and by 4 p.m. (local time) on November 16, 2004 for full proposals by a state Sea Grant Program [or by the National Sea Grant Office (NSGO) in the case of an applicant in a non-Sea Grant state]. Applications are to be forwarded to the NSGO by the state Sea Grant Programs and received by 4 p.m. EST on September 2, 2004 for preliminary proposals and by 4 p.m. EST, November 23, 2004 for full proposals.

Address for Submitting Proposals: Prospective applicants living in Sea Grant states should submit their preliminary and full proposals to their state's Sea Grant program. The addresses of the state Sea Grant College Programs may be found at the following Internet Web site: (http://www.nsgo.seagrant.org/SGDirectors.html) or may also be obtained by contacting Dr. James P. McVey at the NSGO (phone: (301) 713-2451; or e-mail: jim.mcvey@noaa.gov). Applications from non-Sea Grant states should send preliminary and full proposals to the NSGO. Applications submitted to the NSGO should be addressed to: NOAA National Sea Grant Office, Attn: Mrs. Geraldine Taylor, SG-Gulf Oyster Industry Program, 1315 East-West Highway, R/SG, Rm. 11732, Silver Spring, MD 20910 (telephone number for express mail applications is (301) 713-2445).

Information Contacts: Dr. James P. McVey, tel: (301) 713-2451; e-mail: jim.mcvey@noaa.gov, or any state Sea Grant Program.

Eligibility: Individuals, institutions of higher education, nonprofit organizations, commercial organizations, Federal, State, local and Indian tribal governments, foreign governments, and international organizations are eligible. Only those who submit preliminary proposals by the preliminary proposal deadline are eligible to submit full proposals. Those applicants submitting preliminary proposals by the preliminary proposal deadline that are not recommended by the pre-proposal review process would still be eligible to submit full proposals.

Cost Sharing Requirements: Applicants are required to provide one dollar for every two of Federal funds.

Intergovernmental Review: Applications under this program are not subject to Executive Order 12372, “Intergovernmental Review of Federal Programs.”

3. NOAA Office of Ocean Exploration Announcement of Opportunity, FY 2005

Summary Description: The NOAA Office of Ocean Exploration (OE) is seeking pre-proposals and full proposals to support its mission to search, investigate, and document unknown and poorly known areas of the ocean and Great Lakes through interdisciplinary exploration, and to advance and disseminate knowledge of the ocean environment and its physical, chemical, biological, and historical resources. Successful OE proposals will be relatively high-risk, innovative and broad-based in terms of their approach and objectives. OE is soliciting proposals whose objectives fall within one of the four following categories: Deep Corals, the Arctic, Archaeology, and General Exploration.

Funding Availability: OE anticipates approximately $5,000,000, including shiptime costs, to be available to fund proposals accepted through this solicitation. Proposals funded through the FY04 Announcement of Opportunity, excluding shiptime or submersible costs, ranged from approximately $17,000 to $500,000 with an average of approximately $85,000. Proposals may be considered for funds greater than the range described here. It is expected that approximately 25 awards will be made through this solicitation, pending the availability of funds. Please note that several proposals submitted in response to the FY04 solicitation will also be considered in this year's pool of proposals for FY05 funding. The OE Director may hold over select proposals submitted for FY05 funding into FY06 to consider awarding out of the FY06 appropriation.

Statutory Authority: 33 U.S.C. 883d.

CFDA: 11.460, Special Oceanic and Atmospheric Projects.

Application Deadline: Applications for FY05 collaboration with OE will be accepted within four separate categories: Deep Corals, Arctic, Archaeology, and General Exploration. Pre-proposals are required only for the General Exploration category. Pre-proposals must be received by August 30, 2004. Full proposals are required for all categories. Full proposals must be received by October 12, 2004. To ensure that your application will be considered in FY05, it must be received by the dates listed above. However, depending on the availability of funds, the Office of Ocean Exploration may consider applications received after those dates. No e-mail and/or facsimile pre-proposals and/or proposals submissions will be accepted.

Address for Submitting Applications: Pre-proposals and proposals must be submitted to: Attn: Proposal Manager, NOAA Office of Ocean Exploration, 1315 East West Highway, SSMC III, 10th Floor, Silver Spring, Maryland 20910 (telephone number for express mail applications is (301) 713-9444).

Information Contacts: For further information contact the NOAA Office of Ocean Exploration at (301) 713-9444 or submit inquiries via e-mail to the Frequently Asked Questions address: oar.oe.FAQ@noaa.gov. E-mail inquiries should include the Principal Investigator's name in the subject heading.

Eligibility: Eligible applicants are institutions of higher education, other nonprofits, commercial organizations, organizations under the jurisdiction of foreign governments, international organizations, State, local and Indian tribal governments. Applications from Federal agencies will be considered.

Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Though cost-sharing is not required, it is encouraged.

Intergovernmental Review: Applications under this program are subject to Executive Order 12372, “Intergovernmental Review of Federal Programs.” Applicants must contact their State's Single Point of Contact (SPOC) to find out about and comply with the State's process under EO 12372. The names and addresses of the SPOCs are listed in the Office of Management and Budget's web-site: http://www.whitehouse.gov/omb/grants/spoc.html.

4. Joint Hurricane Testbed (JHT) Opportunities for Transfer of Research and Technology Into Tropical Cyclone Analysis and Forecast Operations

Summary Description: The Office of Oceanic and Atmospheric Research (OAR), National Oceanic and Atmospheric Administration (NOAA), is soliciting preapplications (Letters of Intent) and full proposals under the United States Weather Research Program (USWRP) as administered by the USWRP Joint Hurricane Testbed (JHT). This notice describes opportunities and application procedures for the transfer of relevant research and technology advances into tropical cyclone analysis and forecast operations. This notice calls for researchers to submit proposals to test and evaluate, and modify if necessary, in a quasi-operational environment, their own scientific and technological research applications. Projects satisfying metrics for success and operational constraints may be selected for operational implementation by the operational center(s) after the completion of the JHT-funded work. The period of the award is from one up to two years.

Funding Availability: The estimate for total JHT funding that will be available in FY 2005 is $1,500,000, which will likely be used to fund 10-15 new projects. Award amounts for previous JHT grants have been mostly between $50,000 and $200,000 per year. A similar range is expected for this announcement. Funding of any JHT proposals is contingent upon availability of these funds. NOAA anticipates making awards under this program provided that funding for the USWRP is continued. Issuance of follow-on year awards, however, are subject to the future availability of funds. In no event will NOAA or the Department of Commerce be responsible for proposal preparation costs.

Statutory Authority: 49 U.S.C. 44720(b), 33 U.S.C. 883d.

CFDA: 11.431, Climate and Atmospheric Research.

Preapplication and Application Deadlines: Preapplications submitted by Principal Investigators (PIs) must be received at the Tropical Prediction Center/National Hurricane Center (TPC/NHC) in Miami, Florida (for addresses, see below under the heading: Addresses for Submitting Preapplications and Full Proposals) no later than 5 p.m. Eastern Daylight Time (EDT) July 30, 2004. TPC/NHC determines whether a preapplication has been submitted before the deadline by date and time stamping the applications as they are physically received in the TPC/NHC office. Preapplications received after the deadline will not be reviewed, but in such cases PIs are still permitted to submit a full proposal. Letters will be sent from NOAA, in response to each preapplication reviewed, no later than September 24, 2004. One signed original and two additional hard copies of both the full proposal and all additionally required forms must be received at TPC/NHC in Miami, Florida (for address, see below under the heading: Addresses for Submitting Preapplications and Proposals) no later than 5 p.m. Eastern Daylight Time (EDT) on October 29, 2004. TPC/NHC determines whether a complete application package has been submitted before the deadline by date and time stamping the packages as they are physically received in the TPC/NHC office. Complete proposal application packages received after the deadline will not be considered for funding.

Addresses for Submitting Preapplications and Proposals: All electronic submissions must be sent via e-mail to: Jiann-Gwo.Jiing@noaa.gov. All hard copy submissions must be sent to: Dr. Jiann-Gwo Jiing, Director, Joint Hurricane Testbed, Tropical Prediction Center, 11691 SW 17th Street, Miami, FL 33165, phone (305) 229-4443.

Information Contacts: Dr. Jiann-Gwo Jiing, Director, Joint Hurricane Testbed, Tropical Prediction Center, 11691 SW 17th Street, Miami, FL 33165, phone (305) 229-4443, or via e-mail at Jiann-Gwo.Jiing@noaa.gov.

Eligibility: Eligible applicants are institutions of higher education; other nonprofits; commercial organizations; foreign governments; organizations under the jurisdiction of foreign governments; international organizations and State, local and Indian tribal governments; and Federal agencies. Applications from non-Federal and Federal applicants will be competed against each other. Proposals selected for funding from non-Federal applicants will be funded through a project grant or cooperative agreement. Proposals selected for funding from NOAA scientists shall be effected by an intra-agency fund transfer. Proposals selected for funding from a non-NOAA Federal agency will be funded through an inter-agency transfer.

Please Note: Before non-NOAA Federal applicants may be funded, they must demonstrate that they have legal authority to receive funds from another Federal agency in excess of their appropriation. The only exception to this is governmental research facilities for awards issued under the authority of 49 U.S.C. 44720(b). Because this announcement is not proposing to procure goods or services from applicants, the Economy Act (31 U.S.C. 1535) is not an appropriate legal basis.

Cost Sharing Requirements: None.

Intergovernmental Review: Applications under this program are not subject to Executive Order 12372, “Intergovernmental Review of Federal Programs.”

5. NOAA Educational Partnership Program With Minority Serving Institutions: Environmental Entrepreneurship Program

Summary Description: The Environmental Entrepreneurship Program is designed to strengthen the capacity of Minority Serving Institutions to foster student careers, entrepreneurship opportunities and advanced academic degrees in the sciences directly related to NOAA's mission. The sciences directly related to NOAA's mission include: Fisheries; coastal; ocean; climate; atmospheric; environmental sciences; and remote sensing technology. For the purposes of this program, Environmental Entrepreneurship is defined as a mechanism to provide student training in the application of NOAA sciences for the creation of business opportunities. This is achieved by Minority Serving Institutions establishing partnerships with NOAA, the academic community, and the public and private sectors to engage students in a complement of entrepreneurial training and technical skills in environmental sciences that will promote commerce and economic development.

Funding Availability: Subject to appropriations, approximately $6 million will be available for the Environmental Entrepreneurship Program competition in 2005. Proposals are limited to a total of $500,000 for a maximum of five years and approximately twelve proposals will be funded.

Statutory Authority: 15 U.S.C. 1540.

CFDA: 11.481 Educational Partnership Program with Minority Serving Institutions.

Application Deadline: Proposals must be received by 5 p.m. Eastern Daylight Savings time on October 29, 2004.

Address for Submitting Applications: NOAA EPP/MSI: Environmental Entrepreneurship Program, National Oceanic and Atmospheric Administration, Room 10725, SSMC3, 1315 East-West Highway, Silver Spring, MD 20910. Facsimile transmissions and electronic mail submission of proposals will not be accepted.

Information Contact: Jewel G. Linzey, Program Manager, Environmental Entrepreneurship Program, (301) 713-9437 ext. 118, facsimile (301) 713-9465, e-mail Jewel.Griffin-Linzey@noaa.gov.

Eligibility: Minority Serving Institutions eligible to submit proposals include institutions of higher education are identified by the Department of Education as: (i) Historically Black Colleges and Universities, (ii) Hispanic-Serving Institutions, (iii) Tribal Colleges and Universities, or (iv) Alaska Native or Native Hawaiian Serving Institutions on the most recent “United States Department of Education Accredited Post-Secondary Minority Institutions” list (at the date of publication of this notice): http://www.ed.gov/about/offices/list/ocr/edlite-minorityinst.html. Proposals will not be accepted from non-profit organizations, foundations, auxiliary services or any other entity submitted on behalf of MSIs.

Cost Sharing Requirements: There is no cost-sharing requirement.

Intergovernmental Review: Applications under this program are not subject to Executive Order 12372, “Intergovernmental Review of Federal Programs''.

6. NOAA Climate Transition Program for FY 2005

Summary Description: The NOAA Climate Transitions Program (NCTP) is a new competitive research effort at NOAA designed to address the increasingly important challenge of providing a structured process for transitioning decision-maker relevant climate research into operational settings while setting the foundation for the next generation of applied climate research.

Funding Availability: There will be approximately $300,000 available for initial research projects funded under this new, peer-reviewed, grants program. It is anticipated that the cost of most funded projects will fall between $50,000 and $100,000 per year and that 3-6 awards will be issued. The awards will be grants and/or cooperative agreements with anticipated start dates of February 1, 2005.

Statutory Authority: 15 U.S.C. 2904.

Catalog of Federal Domestic Assistance Number: 11.431, Climate and Atmospheric Research.

Application Deadline: Proposals must be received at the Office of Global Programs no later than 5 p.m. Eastern Time, August 30, 2004.

Address for Submitting Applications: NOAA Office of Global Programs; Attn: Diane S. Brown, Grants Manager; 1100 Wayne Avenue, Suite 1210; Silver Spring, MD 20910-5603.

Information Contacts: Office of Global Programs Web site http://www.ogp.noaa.gov. Investigators may contact the NOAA program manager, Nancy Beller-Simms (Nancy.Beller-Simms@noaa.gov, Tel. (301) 427-2089, ext. 180, Fax (301) 427-2082). For general grants information, contact Diane S. Brown, Grants Manager, (ogpgrants@noaa.gov, (301) 427-2089, ext. 107, fax (301) 427-2222).

Eligibility: Eligible applicants are institutions of higher education; other nonprofits; commercial organizations; state, local and Indian tribal governments; and Federal agencies. Applications from non-Federal and Federal applicants will be competed against each other.

Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: An award will not be made unless a recipient cost shares at least 5% of the cost of the project but no more than 50% of the cost of the project.

Intergovernmental Review: Applications under this program are not subject to Executive Order 12372, “Intergovernmental Review of Federal Programs.”

NOAA Fellowship/Scholarships/Internships Competitions

National Ocean Service (NOS)

1. Dr. Nancy Foster Scholarship Program; Financial Assistance for Graduate Students

Summary Description: The National Oceanic and Atmospheric Administration (NOAA) is announcing funding availability for graduate students pursuing masters or doctoral level degrees in oceanography, marine biology, or maritime archaeology through the Dr. Nancy Foster Scholarship Program and is inviting applications for such scholarships. Approximately $128,000 will be available through this announcement for fiscal year 2005. It is expected that approximately four awards will be made, depending on the availability of funds. The intent of this program is to recognize outstanding scholarship and encourage independent graduate-level research in the above-mentioned fields.

Statutory Authority: 16 U.S.C. 1445c-1.

CFDA: 11.429 National Marine Sanctuary Program.

Application Deadline: Applications must be received between February 11, 2005 and April 15, 2005 no later than 5 p.m. Eastern Daylight Time.

Address for Submitting Proposals: Applications should be sent to the Dr. Nancy Foster Scholarship Program, Attention: Office of the Assistant Administrator, 13th Floor, National Ocean Service, 1305 East-West Highway, Silver Spring, MD 20910.

Information Contacts: Send your request for information to the Program Manager at the address shown above, by telephone (301) 713-3074, or by internet to http://fosterscholars.noaa.gov.

Eligibility: Only United States citizens currently pursuing or accepted to pursue a masters or doctoral level degree in oceanography, marine biology, or maritime archaeology, including the curation, preservation, and display of maritime artifacts, are eligible for an award under this scholarship program.

Cost Sharing Requirements: None.

Intergovernmental Review: Applications under this program are not subject to Executive Order 12372, “Intergovernmental Review of Federal Programs.”

2. National Estuarine Research Reserve (NERR) Graduate Research Fellowship Program (GRF)

Summary Description: The Estuarine Reserves Division of NOAA is soliciting applications for graduate fellowship funding within the National Estuarine Research Reserve System. The Estuarine Reserves Division anticipates that 24 Graduate Research Fellowships will be competitively awarded to qualified graduate students whose research occurs within the boundaries of at least one reserve. The National Estuarine Research Reserve Graduate Research Fellowship program is designed to fund high quality research focused on enhancing coastal zone management while providing students with an opportunity to contribute to the research or monitoring program at a particular reserve site. Students are required to work with the research coordinator or reserve manager to develop a plan to participate in the research or monitoring program for up to 15 hours per week. These management-related research projects will enhance scientific understanding of the Reserve ecosystem, provide information needed by Reserve management and coastal management decision-makers, and improve public awareness and understanding of estuarine ecosystems and estuarine management issues. Research projects must address one of the following scientific areas of support: non-point source pollution, biodiversity, invasive species, habitat restoration, sustaining resources in estuarine ecosystems, and socioeconomic research applicable to estuarine ecosystem management.

Funding Availability: The amount of the fellowship is anticipated to be $20,000; at least 30% of total project cost match is required by the applicant (i.e. $8,572 match for $20,000 in Federal funds for a total project cost of $28,572). Applicants may apply for one to three years of funding.

Statutory Authority: 16 U.S.C. 1461 (e)(1)(B) .

CFDA: 11.420 Coastal Zone Management.

Application Deadline: All applications must be received or postmarked by November 1, 2004.

Address for Submitting Proposals: NOAA's Estuarine Reserves Division; 1305 East-West Highway; SSMC4, Station 10500, N/ORM5; Silver Spring, MD 20912.

Information Contact: Erica Seiden, NOAA's Estuarine Reserves Division; 1305 East-West Highway; SSMC4, Station 10500, N/ORM5; Silver Spring, MD 20912, or by phone at (301) 713-3155 extension 172, or fax to (301) 713-4363, internet at erica.seiden@noaa.gov or http://www.nerrs.noaa.gov/fellowship. If Erica is unavailable, please contact Maurice Crawford at (301) 713-3155 ext. 165 or via e-mail at maurice.crawford@noaa.gov.

Eligibility: Institutions eligible to receive awards include institutions of higher education, other non-profits, commercial organizations, international organizations, State, local and Indian tribal governments. Minority students are encouraged to apply to eligible institutions.

Cost Sharing Requirements: Requested Federal funds must be matched by at least 30 percent of the TOTAL cost of the project, not a portion of only the Federal share, (e.g., $8,572 match for $20,000 in Federal funds for a total project cost of $28,572).

Intergovernmental Review: Applications under this program are not subject to Executive Order 12372, “Intergovernmental Review of Federal Programs.”

Ocean and Atmospheric Research

1. GradFell 2005 C NMFS—Sea Grant Joint Graduate Fellowship Program in Population Dynamics and Marine Resource Economics

Summary Description: The National Sea Grant College Program (Sea Grant) within OAR is seeking applications for one of its fellowship programs to fulfill its broad educational responsibilities and to strengthen the collaboration between Sea Grant and NMFS. Fellows will work on thesis problems of public interest and relevance to NMFS and have summer internships at participating NMFS Science Centers or Laboratories under the guidance of NMFS mentors.

Funding Availability: The NMFS—Sea Grant Joint Graduate Fellowship Program in Population Dynamics and Marine Resource Economics expects to support up to six new Fellows for 2-3 years beginning in FY 2005. The award for each fellowship will be a cooperative agreement of $38,000 per year, with an anticipated start date of May 1, 2005.

Statutory Authority: 33 U.S.C. 1127(a).

Catalog of Federal Domestic Assistance Number: 11.417, Sea Grant Support.

Application Deadline: Applications must be received by 4 p.m. (local time) on November 16, 2004 by a state Sea Grant Program [or by the National Sea Grant Office (NSGO) in the case of an institution of higher education in a non-Sea Grant state]. Applications are due at the NSGO from state Sea Grant Programs by 4 p.m. EST on November 23, 2004.

Address for Submitting Applications: Applications from institutions of higher education in Sea Grant states must be submitted to the state Sea Grant Program. The addresses of the state Sea Grant College Programs may be found at the following Internet Web site: (http://www.nsgo.seagrant.org/SGDirectors.html) or may also be obtained by contacting Ms. Nikola Garber at the National Sea Grant College Program, 1315 East-West Highway, Silver Spring, MD 20910; tel: (301) 713-2431 ext. 124; or e-mail: nikola.garber@noaa.gov. Applications from elsewhere may be submitted either to the nearest state Sea Grant Program or directly to the NSGO. Applications submitted to the NSGO should be addressed to: National Sea Grant Office, Attn: Mrs. Geraldine Taylor, SG-NMFS Fellowship Competition, 1315 East-West Highway, R/SG, Rm 11732, Silver Spring, MD 20910 (telephone number for express mail applications is (301) 713-2445).

Information Contact: Ms. Nikola Garber, National Sea Grant College Program, 1315 East-West Highway, Silver Spring, MD 20910; tel: (301) 713-2431 ext. 124; e-mail: nikola.garber@noaa.gov; any state Sea Grant Program; or any participating NMFS facility.

Eligibility: Prospective Fellows must be United States citizens. At the time of application, prospective Population Dynamics Fellows must be admitted to a PhD degree program in population dynamics or a related field such as applied mathematics, statistics, or quantitative ecology at an institution of higher education in the United States or its territories, or submit a signed letter from the institution indicating provisional acceptance to a PhD degree program conditional on obtaining financial support such as this fellowship. At the time of application, prospective Marine Resource Economics Fellows must be in the process of completing at least two years of course work in a PhD degree program in natural resource economics or a related field at an institution of higher education in the United States or its territories. Applications must be submitted by the institution of higher education, which may be any such institution in the United States or its territories.

Cost Sharing Requirements: Required 50 percent match of the NSGO funds by the academic institution (i.e., $6,333).

Intergovernmental Review: Applications under this program are not subject to Executive Order 12372, “Intergovernmental Review of Federal Programs.”

2. Sea Grant—Industry Fellowship Program

Summary Description: The National Sea Grant College Program (Sea Grant) within OAR is seeking applications for one of its fellowship programs to fulfill its broad educational responsibilities and to strengthen the collaboration between Sea Grant and industry. The Sea Grant—Industry Fellowship is available to graduate students enrolled in either MS or PhD degree programs in institutions of higher education in the United States and its territories, with required matching funds from private industrial sponsors. Industry Fellows will work on research and development projects on topics of interest to a particular industry/company. In a true partnership, the student, the faculty advisor, the Sea Grant College or institute, and the industry representative will work together, sharing research facilities and the cost of the activity.

Funding Availability: Sea Grant anticipates awarding a total of $300,000 (including matching funds) through this announcement by supporting up to five new Industry Fellows for two years beginning in FY 2005. The award for each Industry Fellowship, contingent upon the availability of Federal funds, will be in the form of a grant of up to $30,000 per year from Sea Grant with an anticipated start date of May 1, 2005.

Statutory Authority: 33 U.S.C. 1127(a).

CFDA: 11.417, Sea Grant Support.

Application Deadline: Applications must be received by 4 p.m. (local time) on November 16, 2004, by a state Sea Grant Program [or by the National Sea Grant Office (NSGO) in the case of an institution of higher education in a non-Sea Grant state]. Applications are to be forwarded to the NSGO by the state Sea Grant Programs and received by 4 p.m. (EST) on November 23, 2004.

Address for Submitting Applications: Applications from institutions of higher education in Sea Grant states must be submitted to the state Sea Grant Program. The addresses of the state Sea Grant College Programs may be found at the following Internet Web site: (http://www.nsgo.seagrant.org/SGDirectors.html) or may also be obtained by contacting Ms. Nikola Garber at the National Sea Grant College Program, 1315 East-West Highway, Silver Spring, MD 20910; tel: (301) 713-2431 ext. 124; or e-mail: nikola.garber@noaa.gov. Applications from elsewhere may be submitted either to the nearest state Sea Grant Program or directly to the NSGO. Applications submitted to the NSGO should be addressed to: NOAA National Sea Grant Office, Attn: Mrs. Geraldine Taylor, SG B Industry Fellowship Program, 1315 East-West Highway, R/SG, Rm. 11732, Silver Spring, MD 20910 (telephone number for express mail applications is (301) 713-2445).

Information Contacts: Ms. Nikola Garber, tel: (301) 713-2431 ext. 124; e-mail: nikola.garber@noaa.gov, or any state Sea Grant Program.

Eligibility: At the time of application, any prospective student, regardless of citizenship, must be admitted to a MS or PhD degree program at an institution of higher education in the United States or its territories, or submit a signed letter from the institution indicating provisional acceptance to a MS or PhD degree program conditional on obtaining financial support such as this fellowship. Applications must be submitted by the institution of higher education.

Cost Sharing Requirements: Required 50 percent match of the Federal funds by the industrial partner.

Intergovernmental Review: Applications under this program are not subject to Executive Order 12372, “Intergovernmental Review of Federal Programs.”

Limitation of Liability

Funding for programs listed in this notice is contingent upon the availability of Fiscal Year 2005 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, they are required to provide a Dun and Bradstreet Data Universal Numbering System (DUNS) number during the application process. See the October 30, 2002 Federal Register, Vol. 67, No. 210, pp. 66177B66178 for additional information. Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm).

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application. The Department of Commerce Pre-Award Notification Requirements for Grants and Cooperative Agreements. The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424 and 424A,424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 24, 2004.
Helen Hurcombe,
Director Acquisition and Grants Office, National Oceanic and Atmospheric Administration.

[FR Doc. 04-14844 Filed 6-29-04; 8:45 am]

BILLING CODE 3510-12-P